DEPARTMENT OF LABOR

Employment and Training Administration

[TA-W-53,400]

CapitaL City Press, Publication Services Division, Barre, VT; Notice of Termination of Investigation

Pursuant to section 221 of the Trade Act of 1974, an investigation was initiated on October 31, 2003 in response to a worker petition which was filed on behalf of workers at Capital City Press, Publication Services Division, Barre, Vermont.

An active certification covering the petitioning group of workers is already in effect (TA-W-50,315, as amended). Consequently, further investigation in this case would serve no purpose, and the investigation has been terminated.

Signed in Washington, DC this 6th day of November, 2003.
Linda G. Poole,
Certifying Officer, Division of Trade Adjustment Assistance.

[FR Doc. 03-29535 Filed 11-25-03; 8:45 am]

BILLING CODE 4510-30-P